NATIONAL CAPITAL PLANNING COMMISSION

Public Comment and Public Meeting on Draft Revisions to the Federal Environment Element of the Comprehensive Plan for the National Capital: Federal Elements

AGENCY: National Capital Planning Commission.

ACTION: Notice of public comment period and public meeting.

SUMMARY: The National Capital Planning Commission (NCPC), the Planning Commission for the Federal Government within the National Capital Region, intends to release for public comment draft revisions to the Federal Environment Element of the Comprehensive Plan for the National Capital: Federal Elements. The Comprehensive Plan for the National Capital: Federal Elements addresses matters relating to Federal Properties and Federal Interests in the National Capital Region, and provides a decision-making framework for actions the NCPC takes on specific plans and proposals submitted by Federal government agencies for the NCPC review required by law. The Federal Environment Element articulates policies that guide federal actions on mitigating environmental impacts and providing better stewardship of environmental resources. All interested parties are invited to submit written comment. The draft revised Federal Environment Element will be available online at http://www.ncpc.gov/compplan no later than June 11, 2012. Printed copies are available upon request from the contact person noted below.

DATES AND TIME: The public comment period begins on Monday, June 11, 2012 and closes on Friday, August 10, 2012. A public meeting to discuss the draft revisions to the Federal Environment Element will be held on Wednesday, June 27, 2012 from 6:30 p.m. to 8:30 p.m.

ADDRESSES: Mail written comments or hand deliver comments on the draft revisions to Comprehensive Plan Public Comment, National Capital Planning Commission, 401 9th Street NW., Suite 500, Washington, DC 20004. The public meeting will be held at 401 9th Street NW., North Lobby, Suite 500, Washington, DC 20004.

FOR FURTHER INFORMATION CONTACT: David Zaidain at (202) 482-7230 or david.zaidain@ncpc.gov. Please confirm meeting attendance with Mr. Zaidain or as noted below.

SUPPLEMENTARY INFORMATION:

Electronic Access and Filing Addresses

You may submit comments electronically at the public comment portal at http://www.ncpc.gov/compplan. Confirm meeting attendance at http://www.ncpc.gov.rsvp.

Speaker Sign-Up and Speaker Time Limits

Individuals should register to speak on the sign-up sheet available at the meeting. Speakers are asked to limit their remarks to five minutes.

Authority: (40 U.S.C. 8721(e)(2)).

Dated: May 30, 2012.
Anne R. Schuyler,
General Counsel.

[FR Doc. 2012-13564 Filed 6-4-12; 8:45 am]

BILLING CODE 7520-01-P